DEPARTMENT OF EDUCATION

Charter Schools Program (CSP) Grants for Replication and Expansion of High-Quality Charter Schools

AGENCY: Office of Innovation and Improvement, Department of Education.

ACTION: Notice of proposed priorities, requirements, definitions, and selection criteria.

Catalog of Federal Domestic Assistance (CFDA) Number: 84.282M.

SUMMARY: The Assistant Deputy Secretary for Innovation and Improvement proposes priorities, requirements, definitions, and selection criteria under the CSP-Replication and Expansion of High-Quality Charter Schools grant competition. The Assistant Deputy Secretary may use these priorities, requirements, definitions, and selection criteria for competitions in fiscal year (FY) 2011 and later years. The Assistant Deputy Secretary intends to use these priorities, requirements, definitions, and selection criteria to award grants to eligible applicants to enable them to replicate or substantially expand high-quality charter schools with demonstrated records of success, including success in increasing student academic achievement.

DATES: We must receive your comments on or before April 25, 2011.

ADDRESSES: Address all comments about this notice to Erin Pfeltz, U.S. Department of Education, 400 Maryland Avenue, SW., room 4W255, Washington, DC 20202-5970.

If you prefer to send your comments by e-mail, use the following address: erin.pfeltz@ed.gov. You must include the phrase “CSP Grants for Replication and Expansion of High-Quality Charter Schools—Comments on FY 2011 Proposed Priorities” in the subject line of your electronic message.

FOR FURTHER INFORMATION CONTACT: Erin Pfeltz. (202) 205-3525 or by e-mail: erin.pfeltz@ed.gov.

If you use a telecommunications device for the deaf (TDD), call the Federal Relay Service, toll free, at 1-800-877-8339.

SUPPLEMENTARY INFORMATION: Invitation to Comment: We invite you to submit comments regarding this notice. To ensure that your comments have maximum effect in developing the notice of final priorities, requirements, definitions, and selection criteria, we urge you to identify clearly the specific proposed priority, requirement, definition, or selection criterion that each comment addresses.

We invite you to assist us in complying with the specific requirements of Executive Order 12866 and its overall requirement of reducing regulatory burden that might result from these proposed priorities, requirements, definitions, and selection criteria. Please let us know of any further opportunities we should take to reduce potential costs or increase potential benefits while preserving the effective and efficient administration of the program.

During and after the comment period, you may inspect all public comments about this notice in room 4W255, 400 Maryland Avenue, SW., Washington, DC, between the hours of 8:30 a.m. and 4 p.m., Washington, DC time, Monday through Friday of each week except Federal holidays.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the CSP is to increase national understanding of the charter school model and to expand the number of high-quality charter schools available to students across the Nation by providing financial assistance for the planning, program design, initial implementation, or expansion of charter schools; and to evaluate the effects of charter schools, including their effects on students, student academic achievement, staff, and parents.

The purpose of the CSP-Replication and Expansion of High-Quality Charter Schools grant competition (CFDA 84.282M) is to award grants to eligible entities for the replication and expansion of successful charter school models.

Program Authority: 20 U.S.C. 7221-7221j; Consolidated Appropriations Act, 2010, Division D, Title III, Public Law 111-117.

Note: The Department anticipates that an authority similar to that in the Consolidated Appropriations Act, 2010, Division D, Title III, Public Law 111-117 will be included in the legislation that sets forth the Department's fiscal year 2011 appropriations.

Proposed Priorities

The Assistant Deputy Secretary for Innovation and Improvement proposes the following four priorities for this program. We may apply one or more of these priorities in any year in which this program is in effect.

Proposed Priority 1—Experience Operating or Managing High-Quality Charter Schools

Background

The Consolidated Appropriations Act, 2010, Division D, Title III, Public Law 111-117 called for the Department to make awards to eligible entities for the replication and expansion of “successful” charter school models in fiscal year (FY) 2010. For FY 2011, the Department anticipates that its appropriations statute will include similar language. Accordingly, because the focus of this program is specifically on the replication and expansion of “successful” charter school models, the Department believes that it is important that applicants have experience operating or managing multiple high-quality charter schools. Examples of successful applications under this program for FY 2010 can be found at http://www.ed.gov/news/press-releases/education-secretary-arne-duncan-announces-twelve-grants-50-million-charter-schoo. The abstracts describing these projects are available at http://www2.ed.gov/programs/charter-rehqcs/index.html.

Proposed Priority

This proposed priority is for projects that will provide for the replication or expansion of high-quality charter schools by applicants that currently operate or manage more than one high-quality charter school (as defined in this notice).

Proposed Priority 2—Low-Income Demographic

Background

Under the program statute, in determining the quality of applications from State educational agencies (SEAs) for CSP grants, the Secretary considers such factors as the contribution the charter school grant program will make to assisting educationally disadvantaged and other students to meet State academic content and State student academic achievement standards (20 U.S.C. 7221c(a)(1)). To help ensure that grantees under this program are well-prepared to serve educationally disadvantaged students, we propose a priority for applicants that have experience serving individuals from low-income families, which we believe is a close proxy for educationally disadvantaged students and is easily determined at the administrative level.

Proposed Priority

To meet this proposed priority, an applicant must demonstrate that at least 60 percent of all students in the charter schools it currently operates or manages are individuals from low-income families (as defined in this notice).

Proposed Priority 3—School Improvement

Background

One of the Department's top priorities is to help turn around the Nation's lowest-performing public schools. The Department's School Improvement Grants, authorized under section 1003(g) of the Elementary and Secondary Education Act of 1965 (ESEA), as amended (20 U.S.C. 6303(g)), provide support for charter schools as an important partner with local educational agencies (LEAs) in the school turnaround effort. We propose this priority to support this effort further.

Proposed Priority

To meet this proposed priority, an applicant must demonstrate that its proposed replication or expansion of one or more high-quality charter schools will occur in partnership with, and will be designed to assist, one or more LEAs in implementing academic or structural interventions to serve students attending schools that have been identified for improvement, corrective action, closure, or restructuring under section 1116 of the ESEA, and as described in the notice of final requirements for the School Improvement Grants, published in the Federal Register on October 28, 2010 (75 FR 66363).

Proposed Priority 4—Promoting Diversity

Background

In order to promote diversity in high-quality charter schools, the Secretary proposes a priority for applicants that propose projects designed to promote racial diversity, or avoid racial isolation, and serve students with disabilities and English learners at a rate equal to or higher than the rate at which these students are served in public schools in the surrounding area.

Proposed Priority

This proposed priority is for applicants that demonstrate a record of (in the schools they currently operate or manage), as well as an intent to continue (in schools that they will be creating or substantially expanding under this grant), taking active measures to—

(a) Promote diversity in their student bodies, including racial and ethnic diversity, or avoid racial isolation;

(b) Serve students with disabilities at a rate equal to or higher than the rate at which these students are served in public schools in the surrounding area; and

(c) Serve English learners at a rate equal to or higher than the rate at which these students are served in public schools in the surrounding area.

In support of this priority, applicants must provide enrollment data as well as descriptions of existing policies and activities undertaken or planned to be undertaken.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority we are particularly interested in applications that meet the priority. However, we do not give an application that meets the priority a preference over other applications (34 CFR 75.105(c)(1)).

Proposed Requirements

Background

Because the purpose of this grant program is to replicate or expand high-quality charter schools, we propose to limit the use of funds to the replication or substantial expansion of an existing high-quality charter school that is based on the model or models for which the applicant has presented evidence of success.

Proposed Requirements

The Assistant Deputy Secretary for Innovation and Improvement proposes the following requirements for this program. We may apply one or more of these requirements in any year in which this program is in effect.

(a) Eligibility: To be eligible for an award, an eligible applicant must meet the statutory requirements. The requirement listed below is statutory; we are including it here for clarity. Eligible applicants for this program are non-profit charter management organizations (CMOs) and other not-for-profit entities.

Eligible applicants may also apply as a group or consortium.

(b) Funding Restrictions: Grantees under this program must use the grant funds to replicate or substantially expand the model or models for which the applicant has presented evidence of success, through the activities described in section 5204(f)(3) of the ESEA (20 U.S.C. 7221c(f)(3)).

Note: A grantee may use up to 20 percent of grant funds for initial operational costs associated with the expansion or improvement of the grantee's oversight or management of its charter schools provided that: (i) The specific charter schools being created or substantially expanded under the grant are the intended beneficiaries of such expansion or improvement, and (ii) such expansion or improvement is intended to improve the grantee's ability to manage or oversee the charter schools created or substantially expanded under the grant.

(c) Reasonable and Necessary Costs. The Secretary may elect to impose a maximum limit on the amount of grant funds that may be awarded per charter school replicated, per charter school substantially expanded, or per new school seat created.

Note: Applicants must ensure that all costs included in the proposed budget are reasonable and necessary in light of the goals and objectives of the proposed project. Any costs determined by the Secretary to be unreasonable or unnecessary will be removed from the final approved budget.

(d) Other CSP Grants. A charter school that receives funds under this competition is ineligible to receive funds for the same purpose under section 5202(c)(2) of the ESEA, including for planning and program design or the initial implementation of a charter school (i.e., CFDA 84.282A or 84.282B).

A charter school that has received CSP funds for replication previously, or that has received funds for planning or initial implementation of a charter school (i.e., CFDA 84.282A or 84.282B), may not use funds under this grant for the same purpose. However, such charter schools may be eligible to receive funds under this competition to substantially expand the charter school beyond the existing grade levels or student count.

Proposed Definitions

Background

Several terms associated with this program are not defined in section 5210 of the ESEA. Therefore, we are proposing the following definitions for these terms.

Proposed Definitions

The Assistant Deputy Secretary for Innovation and Improvement proposes the following definitions for these grants. We may apply one or more of these definitions in any year in which we award grants for the replication and expansion of high-quality charter schools.

Charter management organization (CMO) is a nonprofit organization that operates or manages multiple charter schools by centralizing or sharing certain functions and resources among schools.

Educationally disadvantaged students includes, but is not necessarily limited to, individuals from low-income families (as defined elsewhere in this notice), English learners, migratory children, children with disabilities, and neglected or delinquent children.

High-quality charter school is a school that—shows evidence of strong academic results for the past three years (or over the life of the school, if the school has been open for fewer than three years), based on the following factors:

(1) Increasing student academic achievement and attainment for all students, including, as applicable, educationally disadvantaged students served by the charter schools operated or managed by the applicant.

(2) Either (i) Demonstrated success in closing historic achievement gaps for the subgroups of students, described in section 1111(b)(2)(C)(v)(II) of the ESEA at the charter schools operated or managed by the applicant, or

(ii) No significant achievement gaps between any of the subgroups of students described in section 1111(b)(2)(C)(v)(II) of the ESEA at the charter schools operated or managed by the applicant and significant gains in student academic achievement have been made with all populations of students served by the charter schools operated or managed by the applicant.

(3) Achieved results (including performance on statewide tests, annual student attendance and retention rates, high school graduation rates, college attendance rates, and college persistence rates (where applicable and available)) for low-income and other educationally disadvantaged students served by the charter schools operated or managed by the applicant that are above the average academic achievement results for such students in the State.

(4) Has no significant compliance issues (as defined in this notice), particularly in the areas of student safety and financial management.

Individual from a low-income family means an individual who is determined by an SEA or LEA to be a child, ages 5 through 17, from a low-income family, on the basis of (a) data used by the Secretary to determine allocations under section 1124 of the ESEA, (b) data on children eligible for free or reduced-price lunches under the Richard B. Russell National School Lunch Act, (c) data on children in families receiving assistance under part A of title IV of the Social Security Act, (d) data on children eligible to receive medical assistance under the Medicaid program under Title XIX of the Social Security Act, or (e) an alternate method that combines or extrapolates from the data in items (a) through (d) of this definition (see 20 U.S.C. 6537(3)).

Replicate means to open one or more new charter schools that are based on the charter school model or models for which the applicant has presented evidence of success.

Significant compliance issue means a violation that did, will, or could lead to the revocation of a school's charter.

Substantially expand means to increase the student count of an existing charter school by more than 50 percent or to add at least two grades to an existing charter school over the course of the grant.

Proposed Application Requirements

Background

In order to provide reviewers with sufficient information to judge applications based on the selection criteria, we propose the following application requirements.

Proposed Application Requirements

Applicants applying for CSP Grants for Replication and Expansion of High-Quality Charter Schools funds must address both the following application requirements, which are based on the statutory requirements under the program, and the selection criteria described in this notice. We may apply one or more of these application requirements in any year in which this program is in effect. An applicant may choose to respond to these application requirements in the context of its responses to the selection criteria.

(a) Describe the objectives of the project for replicating or substantially expanding high-quality charter schools and the methods by which the applicant will determine its progress toward achieving those objectives.

(b) Describe how the applicant currently operates or manages the charter schools for which it has presented evidence of success, and how the proposed new or substantially expanded charter schools will be operated or managed. Include a description of central office functions, governance, daily operations, financial management, human resources management, and instructional management. If applying as a group or consortium, describe the roles and responsibilities of each member of the group or consortium and how each member will contribute to this project.

(c) Describe how the applicant will ensure that each proposed new or substantially expanded charter school receives its commensurate share of Federal education funds that are allocated by formula each year, including during the first year of operation of the school and any year in which the school's enrollment substantially expands significantly.

(d) Describe the educational program to be implemented in the proposed new or substantially expanded charter schools, including how the program will enable all students (including educationally disadvantaged students) to meet State student academic achievement standards, the grade levels or ages of students to be served, and the curriculum and instructional practices to be used.

(e) Describe the administrative relationship between the charter school or schools to be replicated or substantially expanded by the applicant and the authorized public chartering agency.

(f) Describe how the applicant will provide for continued operation of the proposed new or substantially expanded charter school or schools once the Federal grant has expired.

(g) Describe how parents and other members of the community will be involved in the planning, program design, and implementation of the proposed new or substantially expanded charter school or schools.

(h) Include a request and justification for waivers of any Federal statutory or regulatory provisions that the applicant believes are necessary for the successful operation of the proposed new or substantially expanded charter schools.

(i) Describe how the grant funds will be used, including how these funds will be used in conjunction with other Federal programs administered by the Secretary, and with any matching funds.

(j) Describe how students in the community, including students with disabilities, English learners, and other educationally disadvantaged students, will be informed about the proposed new or substantially expanded charter schools and given an equal opportunity to attend such schools.

(k) Describe how the proposed new or substantially expanded charter schools that are considered to be LEAs under State law, or the LEAs in which the new or substantially expanded charter schools are located, will comply with sections 613(a)(5) and 613(e)(1)(B) of the Individuals with Disabilities Education Act.

(l) Provide information on any significant compliance issues identified within the past three years for each school managed by the applicant, including compliance issues in the areas of student safety, financial management, and statutory or regulatory compliance.

(m) For each charter school currently operated or managed by the applicant, provide the following information: The year founded, the grades currently served, the number of students, the address, the percentage of students in each subgroup of students described in section 1111(b)(2)(C)(v)(II) of the ESEA, results on the State assessment for the past three years (if available) by subgroup, attendance rates, student attrition rates for the past three years, and (if the school operates a 12th grade) high school graduation rates and college attendance rates.

(n) Provide objective data showing applicant quality. In particular, the Secretary requires the applicant provide the following data:

(1) Performance (school-wide and by subgroup) for the past three years (if available) on statewide tests of all charter schools operated or managed by the applicant as compared to all students in other schools in the State or States at the same grade level, and as compared with other schools serving similar demographics of students;

(2) Annual student attendance and retention rates (school-wide and by subgroup) for the past three years (or over the life of the school, if the school has been open for fewer than three years), and comparisons with other similar schools; and

(3) Where applicable and available, high school graduation rates, college attendance rates, and college persistence rates (school-wide and by subgroup) for the past three years (if available) of students attending schools operated or managed by the applicant, and the methodology used to calculate these rates. When reporting data for schools in States that may have particularly demanding or low standards of proficiency (for example, see the report available at http://nces.ed.gov/nationsreportcard/pdf/studies/2010456.pdf), applicants are invited to discuss how their academic success might be considered against applicants from across the country.

(o) Provide such other information and assurances as the Secretary may require.

Proposed Selection Criteria

Background

Originally authorized in the Consolidated Appropriations Act, 2010 (and expected to continue under any legislation that provides the Department's FY 2011 appropriations), the CSP-Replication and Expansion of High-Quality Charter Schools grants are intended to assist eligible entities in replicating and substantially expanding their successful school models. To ensure that only applicants with successful models and a demonstrated capacity to open and operate high-quality charter schools receive grant funds, we have developed criteria to assess the quality of applicants, as well as the quality of the organizations they operate. We believe the following proposed selection criteria would ensure that only the highest-quality charter schools will be created and substantially expanded through these grants, and that the CSP's mission of substantially expanding the number of high-quality charter schools will be fulfilled. For this reason, we propose to award grants to eligible entities on the basis of the quality of applications submitted after taking into consideration one or more of the following proposed selection criteria as well as the requirements in the authorizing statute of the CSP and applicable Federal regulations.

Proposed Selection Criteria

The Assistant Deputy Secretary for Innovation and Improvement proposes the following selection criteria for evaluating an application under this program. We may apply one or more of these criteria, alone or in combination with one or more selection criteria from section 34 CFR 75.210, in any year in which we award grants for the replication and expansion of high-quality charter schools. In the notice inviting applications or the application package, or both, we will announce the maximum possible points assigned to each criterion.

(a) Quality of the eligible applicant. In determining the quality of the applicant, the Secretary considers the following factors:

(1) The degree, including the consistency over the past three years, to which the applicant has demonstrated success in significantly increasing student academic achievement and attainment for all students, including, as applicable, educationally disadvantaged students served by the charter schools operated or managed by the applicant.

(2) Either (i) The degree, including the consistency over the past three years, to which the applicant has demonstrated success in closing historic achievement gaps for the subgroups of students, described in section 1111(b)(2)(C)(v)(II) of the ESEA at the charter schools operated or managed by the applicant, or

(ii) The degree, including the consistency over the past three years, to which there have not been significant achievement gaps between any of the subgroups of students described in section 1111(b)(2)(C)(v)(II) of the ESEA at the charter schools operated or managed by the applicant and significant gains in student academic achievement have been made with all populations of students served by the charter schools operated or managed by the applicant.

(3) The degree, including the consistency over the past three years, to which the applicant has achieved results (including performance on statewide tests, annual student attendance and retention rates, high school graduation rates, college attendance rates, and college persistence rates (where applicable and available)) for low-income and other educationally disadvantaged students served by the charter schools operated or managed by the applicant that are significantly above the average academic achievement results for such students in the State.

(b) Contribution in assisting educationally disadvantaged students.

The contribution the proposed project will make in assisting educationally disadvantaged students served by the applicant to meet or exceed State academic content standards and State student academic achievement standards, and to graduate college- and career-ready. When responding to this selection criterion, applicants must discuss the proposed locations of schools to be created or substantially expanded and the student populations to be served.

(c) Quality of the project design.

The Secretary considers the quality of the design of the proposed project. In determining the quality of the design of the proposed project, the Secretary considers the extent to which the goals, objectives, and outcomes to be achieved by the proposed project are clearly specified, measurable, and attainable. Applicants proposing to open schools serving substantially different populations than those currently served by the model for which they have demonstrated evidence of success must address the attainability of outcomes given this difference.

(d) Quality of the management plan and personnel.

The Secretary considers the quality of the management plan and personnel to replicate and substantially expand high-quality charter schools. In determining the quality of the management plan and personnel for the proposed project, the Secretary considers:

(1) The adequacy of the management plan to achieve the objectives of the proposed project on time and within budget, including clearly defined responsibilities, timelines, and milestones for accomplishing project tasks.

(2) The business plan for improving, sustaining, and ensuring the quality and performance of charter schools created or substantially expanded under these grants beyond the initial period of Federal funding in areas including, but not limited to, facilities, financial management, central office, student academic achievement, governance, oversight, and human resources of the charter schools.

(3) A multi-year financial and operating model for the organization, a demonstrated commitment of current and future partners, and evidence of broad support from stakeholders critical to the project's long-term success.

(4) The plan for closing charter schools supported, overseen, or managed by the applicant that do not meet high standards of quality.

(5) The qualifications, including relevant training and experience, of the project director, chief executive officer or organization leader, and key project personnel, especially in managing projects of the size and scope of the proposed project.

Final Priorities, Requirements, Definitions, and Selection Criteria

We will announce the final priorities, requirements, definitions, and selection criteria in a notice in the Federal Register. We will determine the final priorities, requirements, definitions, and selection criteria after considering responses to this notice and other information available to the Department. This notice does not preclude us from proposing additional priorities, requirements, definitions, or selection criteria, subject to meeting applicable rulemaking requirements.

Note: This notice does not solicit applications. In any year in which we choose to use one or more of these proposed priorities, requirements, definitions, and selection criteria, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priorities, requirements, definitions, and selection criteria justify the costs.

We have determined, also, that this proposed regulatory action does not unduly interfere with State, local, and Tribal governments in the exercise of their governmental functions.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available via the Federal Digital System at: http://www.gpo.gov/fdsys.

Dated: March 22, 2011.
James H. Shelton, III,
Assistant Deputy Secretary for Innovation and Improvement.

[FR Doc. 2011-7125 Filed 3-24-11; 8:45 am]

BILLING CODE 4000-01-P